SECURITIES AND EXCHANGE COMMISSION

Sunshine Act Meetings

FEDERAL REGISTER CITATION OF PREVIOUS ANNOUNCEMENT: Publishing in the FR of September 3, 2024.

PREVIOUSLY ANNOUNCED TIME AND DATE OF THE MEETING: Thursday, September 5, 2024, at 2:00 p.m.

CHANGES IN THE MEETING: The Closed Meeting scheduled for Thursday, September 5, 2024, at 2:00 p.m., has been changed to Thursday, September 5, 2024, at 1:00 p.m.

CONTACT PERSON FOR MORE INFORMATION: For further information; please contact Vanessa A. Countryman from the Office of the Secretary at (202) 551-5400.

(Authority: 5 U.S.C. 552b)

Dated: August 30, 2024.
Sherry R. Haywood,
Assistant Secretary.

[FR Doc. 2024-20050 Filed 8-30-24; 4:15 pm]

BILLING CODE 8011-01-P